DEPARTMENT OF JUSTICE

Antitrust Division

Notice Pursuant to the National Cooperative Research and Production Act of 1993—IMS Global Learning Consortium, Inc.

Notice is hereby given that, on April 19, 2017, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Collective Shift/LRNG, Chicago, IL; Hancom Communication, Inc., Gyeonggi-do, REPUBLIC OF KOREA; Harford County Public Schools, Bel Air, MD; ICT and Systems Development, Umeå University, Umeå, SWEDEN; Infinitas Learning (incl. Noordhoff Health), Houton, THE NETHERLANDS; Lee County Public Schools, Fort Meyers, FL; Mozilla, Mountain View, CA; Neosho School District, Neosho, MO; Park Hill School District, Kansas City, MO; ProExam, New York, NY; Renaissance Learning, Wisconsin Rapids, WI; Apereo Foundation (Sakai/Tsugi), Ann Arbor, MI; and Trifork Learning Solutions B.V., Amsterdam, THE NETHERLANDS, have been added as parties to this venture.

Also, Newton Public Schools, Newton, MA; and Lone Star College Online, The Woodlands, TX, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on February 8, 2017. A notice was published in the Federal Register pursuant to Section 6(b) of the Act on March 6, 2017 (82 FR 12639).

Patricia A. Brink,
Director of Civil Enforcement, Antitrust Division.

[FR Doc. 2017-08850 Filed 5-1-17; 8:45 am]

BILLING CODE P